DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Generic Clearance for Data User Evaluation Surveys.

Form Number(s): Various.

Agency Approval Number: 0607-0760.

Type of Request: Extension of a currently approved collection.

Burden: 4,000 hours.

Number of Respondents: 8,000.

Average Hours Per Response: 30 minutes.

Needs and Uses: The Census Bureau requests to extend for an additional three years its generic clearance to conduct customer/product-based research. This extension will allow us to continue to use customer satisfaction surveys, personal interviews, or focus group research to effectively improve and make more customer-oriented programs, products, and services.

Extended clearance for data collections would continue to cover customer/program based research for any Census Bureau program area that needs to measure customer needs, uses, and preferences for statistical information and services. The customer base includes, but is not limited to previous, existing, and potential businesses and organizations, alternate Census Bureau data disseminators like State Data Centers, Business and Industry Data Centers, Census Information Centers, Federal or Census Depository Libraries, educational institutions, and not-for-profit or other organizations.

Prior to any data collection activity, the Census Bureau transmits individual plans, including any supporting documentation and draft research documents to OMB. The Census Bureau also prepares an annual report for OMB to fully describe work done under the generic clearance, including:

• Descriptions of individual research conducted

• Numbers of respondents and respondent burden hours used

• Dates of each survey

• Individual and aggregated costs of surveys

• Individual summaries of results and program/product decisions that were made based upon customer responses and feedback

Information collected from customer research helps the Census Bureau to measure its customer base-their use, satisfaction, and preferences for existing and future programs, products, and services.

Affected Public: Individuals or households; Business or other for-profit; Not-for-profit institutions; Federal Government; State, Local, or Tribal government.

Frequency: On occasion.

Respondent's Obligation: Voluntary.

Legal Authority: Executive Order 12862.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 or via the Internet at dhynek@doc.gov.

Written comments and recommendations for the proposed information collection should be sent within 30 days of publication of this notice to Susan Schechter, OMB Desk Officer either by fax (202) 395-7245) or e-mail (susan_schechter@omb.eop.gov).

Dated: August 10, 2004.
Madeleine Clayton,
Management Analyst, Office of the Chief Information Officer.

[FR Doc. 04-18591 Filed 8-13-04; 8:45 am]

BILLING CODE 3510-07-P